DEPARTMENT OF HEALTH AND HUMAN SERVICES

Centers for Disease Control and Prevention

[60Day-09-09CO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Increasing Adoption of CROPS by Farmers and Manufacturers—New—National Institute for Occupational Safety and Health (NIOSH), Centers for Disease Control and Prevention (CDC).

Background and Brief Description

There was an average of 200 tractor-related fatalities annually between 1992 and 2005 in the U.S., with tractor overturns accounting for 1,412 of these deaths. The majority could have been prevented with the use of a rollover protective structure (ROPS). It is estimated that about half of the 4.8 million tractors in the United States currently do not have ROPS installed. Earlier research indicated that adoption of retrofit ROPS technology for older tractors is impeded by the costs, complexity of this modification, usability and storage of the tractor after the retrofitting (installation), of a ROPS. To overcome these barriers, NIOSH designed a prototype of a cost-effective roll over protective structure (CROPS). Projected retrofit costs for CROPS are $800, compared to $1,200-$2,500 for ROPS; and the installation complexity is significantly reduced. NIOSH has CROPS prototype designs for five tractors: Ford 3000 series, Ford 4000 series, Ford 8N, Ford 4600 and Massey-Ferguson 135. However, this technology has not been transferred to the agricultural workplace, suggesting that the barriers to adoption and implementation are much more complex than previously believed.

With the assistance of state partners, the project will identify the study population—farmers in two selected states who use tractors for which a CROPS prototype has been developed by NIOSH. From this group of farmers a subset of farmers from the study population will be selected (18 in each state for a total of 36) to receive a CROPS at no charge. Each farmer will be asked to install the CROPS and provide an initial assessment of their perception of the utility and value of the device and allow others to observe the retrofit process. New York and Virginia were selected as states because of their high number of tractor roll over fatalities and established relationships with NIOSH, its partners, and access to farming communities. The state partners will schedule and arrange 18 demonstration projects within their respective states for a total of 36 tractor retrofit demonstrations. Attendance at these events is anticipated to be demonstrators, observers, community leaders and fabricators. It is anticipated to have a minimum of 10 attendees identified and secured for each of the 36 demonstration projects. These attendees will be invited to observe installation of CROPS in the field and queried on their perception of the utility and value of the design. This will help identify barriers from and approaches for stimulating farmers to retrofit their tractors with Cost-Effective Roll-Over Protection Structures (CROPS) using stakeholder input.

There is no cost to respondents other than their time.

Estimated Annualized Burden Hours
Respondents | No. of respondents | No. of responses per respondent | Average burden per response (in hours) | Total burden (in hours)
Farmer demonstrators of retrofitting CROPS | 36 | 3 | 15/60 | 27
Observers of CROPS demonstration | 364 | 3 | 15/60 | 273
Total |  |  |  | 300

Dated: September 14, 2009.
Maryam I. Daneshvar,
Acting Reports Clearance Officer, Centers for Disease Control and Prevention.

[FR Doc. E9-22648 Filed 9-18-09; 8:45 am]

BILLING CODE 4163-18-P